DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
City of St. Louis, Missouri
Docket No.: FEMA-B-1062
Missouri | City of St. Louis | Mississippi River | Approximately 0.5 mile upstream of Poplar Street | +426
|  |  | Approximately 0.6 mile upstream from I-270 at the northern boundary of the City of St. Louis | +433
* National Geodetic Vertical Datum.
+ North American Vertical Datum.
# Depth in feet above ground.
‸ Mean Sea Level, rounded to the nearest 0.1 meter.
ADDRESSES
City of St. Louis
Maps are available for inspection at the Building Division, 1200 Market Street, Room 400, St. Louis, MO 63103.

Flooding source(s) | Location of referenced elevation | * Elevation in feet (NGVD) + Elevation in feet (NAVD) # Depth in feet above ground ‸ Elevation in meters (MSL) Modified | Communities affected
Canyon County, Idaho, and Incorporated Areas
Docket Nos.: FEMA-B-7776 and FEMA-B-1104
Boise River | Approximately 2,000 feet upstream of I-84 | +2360 | City of Caldwell, City of Star, Unincorporated Areas of Canyon County.
| At the Ada County Boundary | +2456
Indian Creek | Just upstream of Centennial Way | +2356 | City of Caldwell, City of Nampa, Unincorporated Areas of Canyon County.
| Just upstream of West Columbian Road | +2555
Mason Creek | At the confluence with the Boise River | +2370 | City of Caldwell, City of Nampa, Unincorporated Areas of Canyon County.
| Just upstream of Lone Tree Lane/Ustick Road | +2450
Renshaw Canal | Just upstream of Union Pacific Railroad | +2346 | City of Greenleaf.
| Just upstream of State Highway 19 | +2352
* National Geodetic Vertical Datum.
+ North American Vertical Datum.
# Depth in feet above ground.
‸ Mean Sea Level, rounded to the nearest 0.1 meter.
ADDRESSES
City of Caldwell
Maps are available for inspection at 621 Cleveland Boulevard, 2nd Floor, Caldwell, ID 83605.
City of Greenleaf
Maps are available for inspection at 20523 North Whittier Drive, Greenleaf, ID 83626.
City of Nampa
Maps are available for inspection at 411 3rd Street South, Nampa, ID 83651.
City of Star
Maps are available for inspection at 10769 West State Street, Star, ID 83669.
Unincorporated Areas of Canyon County
Maps are available for inspection at 1115 Albany Street, Caldwell, ID 83605.
Douglas County, Illinois, and Incorporated Areas
Docket No.: FEMA-B-1093
Bourbon No. 3 | Approximately 0.4 mile downstream of Vine Street | +654 | Unincorporated Areas of Douglas County.
| At Vine Street | +658
Embarras River | Approximately 0.7 mile upstream of U.S. Route 36 | +641 | Village of Camargo.
| Approximately 0.5 mile upstream of Main Street | +644
Lake Fork | Approximately 900 feet downstream of U.S. Route 36 | +657 | Village of Atwood.
| Approximately 100 feet downstream of U.S. Route 36 | +657
West Ditch | Approximately 50 feet downstream of Sycamore Street | +650 | City of Villa Grove, Unincorporated Areas of Douglas County.
| Approximately 0.41 mile upstream of Harrison Street | +651
West Fork Kaskaskia River | At the railroad | +653 | Unincorporated Areas of Douglas County.
| Approximately 300 feet upstream of County Road 500 North | +655
* National Geodetic Vertical Datum.
+ North American Vertical Datum.
# Depth in feet above ground.
‸ Mean Sea Level, rounded to the nearest 0.1 meter.
ADDRESSES
City of Villa Grove
Maps are available for inspection at City Hall, 612 East Front Street, Villa Grove, IL 61956.
Unincorporated Areas of Douglas County
Maps are available for inspection at the Douglas County Courthouse, 401 South Center Street, Tuscola, IL 61953.
Village of Atwood
Maps are available for inspection at the Municipal Building, 110 West Central Avenue, Atwood, IL 61913.
Village of Camargo
Maps are available for inspection at the Douglas County Courthouse, 401 South Center Street, Tuscola, IL 61953.
Carlisle County, Kentucky, and Incorporated Areas
Docket No.: FEMA-B-1111
Back Slough (backwater effects from Mississippi River) | From the confluence with Mayfield Creek to approximately 3.2 miles upstream of the confluence with Mayfield Creek | +328 | Unincorporated Areas of Carlisle County.
Gray Creek (backwater effects from Mississippi River) | From the confluence with Mayfield Creek to approximately 1,142 feet upstream of U.S. Route 51 | +329 | Unincorporated Areas of Carlisle County.
Gray Creek Tributary 2 (backwater effects from Mississippi River) | From the confluence with Gray Creek to approximately 0.68 mile upstream of the confluence with Gray Creek | +329 | Unincorporated Areas of Carlisle County.
Hurricane Creek (backwater effects from Mississippi River) | From the confluence with Mayfield Creek to approximately 0.91 mile upstream of the confluence with Mayfield Creek | +329 | Unincorporated Areas of Carlisle County.
Mayfield Creek | At the confluence with the Mississippi River | +329 | Unincorporated Areas of Carlisle County.
| Approximately 0.62 mile upstream of U.S. Route 62 | +352
Mayfield Creek Tributary 23 (backwater effects from Mayfield Creek) | From the confluence with Mayfield Creek to approximately 0.63 mile upstream of the confluence with Mayfield Creek | +346 | Unincorporated Areas of Carlisle County.
Mayfield Creek Tributary 6 (backwater effects from Mississippi River) | From the confluence with Mayfield Creek to approximately 1.92 miles upstream of the confluence with Mayfield Creek | +329 | Unincorporated Areas of Carlisle County.
Mayfield Creek Tributary 6.3 (backwater effects from Mississippi River) | From the confluence with Mayfield Creek Tributary 6 to approximately 0.8 mile upstream of the confluence with Mayfield Creek Tributary 6 | +329 | Unincorporated Areas of Carlisle County.
Mississippi River | Approximately 2,656 feet upstream of the confluence with Sandy Branch in Hickman County (at county boundary) | +325 | Unincorporated Areas of Carlisle County.
| Approximately 158 feet upstream of the confluence with Mayfield Creek | +329
Sandy Branch (backwater effects from Mississippi River) | From the confluence with Sandy Branch Tributary 2 to approximately 3.2 miles upstream of the confluence with Sandy Branch Tributary 2 | +326 | Unincorporated Areas of Carlisle County.
Sandy Branch Tributary 2 (backwater effects from Mississippi River) | From the confluence with Sandy Branch to approximately 1 mile upstream of the confluence with Sandy Branch | +325 | Unincorporated Areas of Carlisle County.
Truman Creek (backwater effects from Mississippi River) | From the confluence with Mayfield Creek to approximately 1.9 mile upstream of the confluence with Mayfield Creek | +329 | Unincorporated Areas of Carlisle County.
West Fork Mayfield Creek (backwater effects from Mississippi River) | From the confluence with Mayfield Creek to approximately 1,548 feet upstream of U.S. Route 62 | +329 | Unincorporated Areas of Carlisle County.
Wilson Creek (backwater effects from Mayfield Creek) | From the confluence with Mayfield Creek to approximately 1,707 feet upstream of the confluence with Mayfield Creek | +334 | Unincorporated Areas of Carlisle County.
* National Geodetic Vertical Datum.
+ North American Vertical Datum.
# Depth in feet above ground.
‸ Mean Sea Level, rounded to the nearest 0.1 meter.
ADDRESSES
Unincorporated Areas of Carlisle County
Maps are available for inspection at 70 West Court Street, Bardwell, KY 42023.
Estill County, Kentucky, and Incorporated Areas
Docket No.: FEMA-B-1111
Big Doe Creek (backwater effects from Kentucky River) | From the confluence with the Kentucky River to approximately 769 feet downstream of Roberts Road | +632 | Unincorporated Areas of Estill County.
Billey Fork (backwater effects from Kentucky River) | From the confluence with Millers Creek to approximately 1,390 feet upstream of CSX Abandoned Railroad | +635 | Unincorporated Areas of Estill County.
Blue Run (backwater effects from Kentucky River) | From the confluence with the Kentucky River to approximately 1.1 miles upstream of the confluence with the Kentucky River | +621 | Unincorporated Areas of Estill County.
Buck Creek (backwater effects from Kentucky River) | From the confluence with the Kentucky River to approximately 0.4 mile downstream of Little Buck Creek Road | +636 | Unincorporated Areas of Estill County.
Buck Creek Tributary 1 (backwater effects from Kentucky River) | From the confluence with Buck Creek to approximately 685 feet upstream of Little Buck Creek Road | +635 | Unincorporated Areas of Estill County.
Calloway Creek (backwater effects from Kentucky River) | From the confluence with the Kentucky River to approximately 1,708 feet downstream of Dry Branch Road | +626 | Unincorporated Areas of Estill County.
Calloway Creek Tributary 1 (backwater effects from Kentucky River) | From the confluence with Calloway Creek to approximately 0.7 mile upstream of the confluence with Calloway Creek | +627 | Unincorporated Areas of Estill County.
Campbell Creek (backwater effects from Kentucky River) | From the confluence with Cow Creek to approximately 0.7 mile upstream of Sid Griffie Road | +632 | Unincorporated Areas of Estill County.
Caney Branch (backwater effects from Kentucky River) | From the confluence with the Red River to approximately 0.6 mile upstream of the confluence with the Red River | +605 | Unincorporated Areas of Estill County.
Clear Creek (backwater effects from Kentucky River) | From the confluence with Station Camp Creek to approximately 0.4 mile downstream of Clearcreek Road | +630 | Unincorporated Areas of Estill County.
Cow Creek (backwater effects from Kentucky River) | From the confluence with the Kentucky River to approximately 1,307 feet downstream of Cow Creek Road | +632 | Unincorporated Areas of Estill County.
Crooked Creek (backwater effects from Kentucky River) | From the confluence with Station Camp Creek to approximately 1.3 miles upstream of Crooked Creek Road | +631 | Unincorporated Areas of Estill County.
Drowning Creek (backwater effects from Kentucky River) | From the confluence with the Kentucky River to just downstream of Richmond Road | +620 | Unincorporated Areas of Estill County.
Furnace Fork (backwater effects from Kentucky River) | From the confluence with Millers Creek to approximately 966 feet upstream of Cobhill Road | +635 | Unincorporated Areas of Estill County.
Hinton Branch (backwater effects from Kentucky River) | From the confluence with Crooked Creek to approximately 0.5 mile upstream of Newton Circle | +631 | Unincorporated Areas of Estill County.
Hoys Fork (backwater effects from Kentucky River) | From the confluence with Crooked Creek to approximately 0.6 mile upstream of Dug Hill Road | +631 | Unincorporated Areas of Estill County.
Kentucky River | At the confluence with the Red River | +605 | City of Irvine, City of Ravenna, Unincorporated Areas of Estill County.
| Approximately 8.7 miles upstream of the confluence with Buck Creek | +645
Kentucky River Tributary 4 (backwater effects from Kentucky River) | From the confluence with the Kentucky River to approximately 1.0 mile upstream of the confluence with the Kentucky River | +627 | Unincorporated Areas of Estill County.
Little Doe Creek (backwater effects from Kentucky River) | From the confluence with the Kentucky River to approximately 532 feet upstream of Little Doe Creek Road | +632 | Unincorporated Areas of Estill County.
Long Branch II (backwater effects from Kentucky River) | From the confluence with Furnace Fork to approximately 0.4 mile upstream of CSX Abandoned Railroad | +635 | Unincorporated Areas of Estill County.
Millers Creek (backwater effects from Kentucky River) | From the confluence with the Kentucky River to the confluence with Billey Fork | +635 | Unincorporated Areas of Estill County.
Noland Creek (backwater effects from Kentucky River) | From the confluence with the Kentucky River to approximately 364 feet downstream of Noland Creek Road | +613 | Unincorporated Areas of Estill County.
Polecat Creek (backwater effects from Kentucky River) | From the confluence with the Kentucky River to approximately 0.6 mile downstream of CSX Railroad | +624 | Unincorporated Areas of Estill County.
Possum Run (backwater effects from Kentucky River) | From the confluence with the Kentucky River to approximately 0.9 mile downstream of Opossum Run Road | +621 | Unincorporated Areas of Estill County.
Red River (backwater effects from Kentucky River) | From the confluence with the Kentucky River to approximately 0.4 mile upstream of the confluence with Caney Branch | +605 | Unincorporated Areas of Estill County.
South Fork Noland Creek (backwater effects from Kentucky River) | From the confluence with Noland Creek to approximately 0.8 mile upstream of the confluence with Noland Creek | +613 | Unincorporated Areas of Estill County.
Station Camp Creek (backwater effects from Kentucky River) | From the confluence with the Kentucky River to approximately 1.6 miles upstream of the confluence with Crooked Creek | +631 | Unincorporated Areas of Estill County.
Sudders Fork (backwater effects from Kentucky River) | From the confluence with Millers Creek to approximately 0.4 mile upstream of CSX Abandoned Railroad | +635 | Unincorporated Areas of Estill County.
Sweet Lick Branch (backwater effects from Kentucky River) | From the confluence with White Oak Creek to approximately 669 feet upstream of Main Street | +630 | Unincorporated Areas of Estill County.
White Oak Creek (backwater effects from Kentucky River) | From the confluence with the Kentucky River to approximately 795 feet upstream of White Oak Road | +630 | Unincorporated Areas of Estill County.
* National Geodetic Vertical Datum.
+ North American Vertical Datum.
# Depth in feet above ground.
‸ Mean Sea Level, rounded to the nearest 0.1 meter.
ADDRESSES
City of Irvine
Maps are available for inspection at 101 Chestnut Street, Irvine, KY 40336.
City of Ravenna
Maps are available for inspection at 620 Main Street, Ravenna, KY 40472.
Unincorporated Areas of Estill County
Maps are available for inspection at 130 Main Street, Irvine, KY 40336.
Fulton County, Kentucky, and Incorporated Areas
Docket No.: FEMA-B-1111
Bayou de Chien (backwater effects from Mississippi River) | From the confluence with the Mississippi River to 0.5 mile upstream of the confluence with Little Bayou de Chien | +321 | Unincorporated Areas of Fulton County.
Harris Fork Creek Tributary 16 (backwater effects from Harris Fork Creek) | At the confluence with Harris Fork Creek | +365 | City of Fulton, Unincorporated Areas of Fulton County.
| Approximately 0.4 mile upstream of the confluence with Harris Fork Creek | +368
Little Bayou de Chien (backwater effects from Mississippi River) | From the confluence with the Mississippi River to approximately 2,140 feet downstream of KY-94 | +321 | Unincorporated Areas of Fulton County.
Little Bayou de Chien Tributary 29 (backwater effects from Mississippi River) | From the confluence with Little Bayou de Chien to approximately 0.54 mile upstream of the confluence with Little Bayou de Chien | +321 | Unincorporated Areas of Fulton County.
Little Bayou de Chien Tributary 35 (backwater effects from Mississippi River) | From the confluence with Little Bayou de Chien to approximately 655 feet upstream of the confluence with Little Bayou de Chien | +321 | Unincorporated Areas of Fulton County.
Little Bayou de Chien Tributary 9 (backwater effects from Mississippi River) | From the confluence with Little Bayou de Chien to approximately 0.7 mile upstream of the confluence with Little Bayou de Chien | +321 | Unincorporated Areas of Fulton County.
Little Mud Creek (backwater effects from Mississippi River) | From the confluence with Bayou de Chien to approximately 0.5 mile upstream of KY-94 | +320 | Unincorporated Areas of Fulton County.
Little Mud Creek Tributary 1 (backwater effects from Mississippi River) | From the confluence with Little Mud Creek to approximately 1.2 miles upstream of the confluence with Little Mud Creek | +320 | Unincorporated Areas of Fulton County.
Mississippi River | At the Tennessee State boundary | +299 | City of Hickman, Unincorporated Areas of Fulton County.
| Approximately 5.7 miles upstream of the confluence with Bayou de Chien | +321
Mud Creek (backwater effects from Mississippi River) | From the confluence with Bayou de Chien to approximately 2,300 feet upstream of the confluence with Mud Creek Tributary 13 | +320 | Unincorporated Areas of Fulton County.
Mud Creek Tributary 10 (backwater effects from Mississippi River) | From the confluence with Mud Creek to approximately 0.9 mile upstream of the confluence with Mud Creek | +320 | Unincorporated Areas of Fulton County.
Mud Creek Tributary 12 (backwater effects from Mississippi River) | From the confluence with Mud Creek to approximately 350 feet upstream of KY-1127 | +320 | Unincorporated Areas of Fulton County.
Mud Creek Tributary 13 (backwater effects from Mississippi River) | From the confluence with Mud Creek to approximately 1,775 feet upstream of the confluence with Mud Creek | +320 | Unincorporated Areas of Fulton County.
Mud Creek Tributary 3 (backwater effects from Mississippi River) | From the confluence with Mud Creek to approximately 0.83 mile upstream of KY-94 | +320 | Unincorporated Areas of Fulton County.
Mud Creek Tributary 4 (backwater effects from Mississippi River) | From the confluence with Mud Creek to approximately 1 mile upstream of KY-2140 | +320 | Unincorporated Areas of Fulton County.
* National Geodetic Vertical Datum.
+ North American Vertical Datum.
# Depth in feet above ground.
‸ Mean Sea Level, rounded to the nearest 0.1 meter.
ADDRESSES
City of Fulton
Maps are available for inspection at 101 Nelson Tripp Place, Fulton, KY 42041.
City of Hickman
Maps are available for inspection at 1812 South 7th Street, Hickman, KY 42350.
Unincorporated Areas of Fulton County
Maps are available for inspection at 2216 Myron Cory Drive, Hickman, KY 42050.
Nelson County, Kentucky, and Incorporated Areas
Docket No.: FEMA-B-1093
Beech Fork Tributary 27 (backwater effects from Beech Fork) | From the confluence with Beech Fork to just downstream of Martha Layne Collins Bluegrass Parkway | +480 | Unincorporated Areas of Nelson County.
Beech Fork Tributary 29 (backwater effects from Beech Fork) | From the confluence with Beech Fork to approximately 0.8 mile upstream of the confluence with Beech Fork | +478 | Unincorporated Areas of Nelson County.
Buffalo Creek (backwater effects from Beech Fork) | From the confluence with Beech Fork to just downstream of Boston Road | +482 | Unincorporated Areas of Nelson County.
Cedar Creek (backwater effects from Beech Fork) | From the confluence with Beech Fork to approximately 1,710 feet upstream of the confluence with Cedar Creek Tributary 12 | +475 | Unincorporated Areas of Nelson County.
David Run (backwater effects from Rolling Fork) | From the confluence with Rolling Fork to approximately 0.7 mile upstream of the confluence with Rolling Fork | +467 | Unincorporated Areas of Nelson County.
Price Creek (backwater effects from Rolling Fork) | From the confluence with Rolling Fork to approximately 0.6 mile upstream of the confluence with Price Creek Tributary 7 | +465 | Unincorporated Areas of Nelson County.
Price Creek Tributary 7 (backwater effects from Rolling Fork) | From the confluence with Price Creek to approximately 0.5 mile upstream of the confluence with Price Creek | +465 | Unincorporated Areas of Nelson County.
Rowan Creek (backwater effects from Beech Fork) | From the confluence with Beech Fork to approximately 1,140 feet upstream of the confluence with Town Creek | +486 | City of Bardstown, Unincorporated Areas of Nelson County.
Taylorsville Lake | Entire shoreline | +592 | Unincorporated Areas of Nelson County.
Timber Creek (backwater effects from Taylorsville Lake) | From the confluence with Taylorsville Lake to approximately 0.7 mile downstream of Highview Church Road | +592 | Unincorporated Areas of Nelson County.
Town Creek (backwater effects from Beech Fork) | From the confluence with Rowan Creek to approximately 585 feet upstream of the confluence with Rowan Creek | +486 | City of Bardstown, Unincorporated Areas of Nelson County.
Vittow Creek (backwater effects from Rolling Fork) | From the confluence with Rolling Fork to approximately 0.6 mile upstream of the confluence with Rolling Fork | +463 | Unincorporated Areas of Nelson County.
* National Geodetic Vertical Datum.
+ North American Vertical Datum.
# Depth in feet above ground.
‸ Mean Sea Level, rounded to the nearest 0.1 meter.
ADDRESSES
City of Bardstown
Maps are available for inspection at City Hall, 220 North 5th Street, Morgantown, KY 42261.
Unincorporated Areas of Nelson County
Maps are available for inspection at the Nelson County Courthouse, 113 East Stephen Foster Avenue, Morgantown, KY 42261.
Taylor County, Kentucky, and Incorporated Areas
Docket No.: FEMA-B-1093
Brushy Fork (backwater effects from Green River Lake) | From the confluence with Long Branch to approximately 0.4 mile upstream of the confluence with Long Branch | +713 | Unincorporated Areas of Taylor County.
Green River Lake | Entire shoreline | +713 | Unincorporated Areas of Taylor County.
Green River Tributary 24.2 (backwater effects from Green River Lake) | From the confluence with Green River Lake to approximately 1,300 feet upstream of the confluence with Green River Lake | +713 | Unincorporated Areas of Taylor County.
Long Branch (backwater effects from Green River Lake) | From the confluence with Green River Lake to approximately 1,022 feet upstream of the confluence with Brushy Fork | +713 | Unincorporated Areas of Taylor County.
Opossum Branch (backwater effects from Green River Lake) | From the confluence with Robinson Creek to approximately 1,716 feet upstream of the confluence with Robinson Creek | +713 | Unincorporated Areas of Taylor County.
Robinson Creek (backwater effects from Green River Lake) | From the confluence with Green River Lake to approximately 730 feet downstream of the confluence with Duton Creek | +713 | Unincorporated Areas of Taylor County.
Robinson Creek Tributary 1 (backwater effects from Green River Lake) | From the confluence with Green River Lake to approximately 0.6 mile upstream of the confluence with Green River Lake | +713 | Unincorporated Areas of Taylor County.
Robinson Creek Tributary 10 (backwater effects from Robinson Creek) | From the confluence with Robinson Creek to approximately 88 feet upstream of Bradfordsville Road | +741 | Unincorporated Areas of Taylor County.
Robinson Creek Tributary 12 (backwater effects from Robinson Creek) | From the confluence with Robinson Creek to approximately 1,166 feet upstream of the confluence with Robinson Creek | +732 | Unincorporated Areas of Taylor County.
Robinson Creek Tributary 7 (backwater effects from Robinson Creek) | From the confluence with Robinson Creek to approximately 1,855 feet upstream of the confluence with Robinson Creek | +750 | Unincorporated Areas of Taylor County.
Robinson Creek Tributary 8 (backwater effects from Robinson Creek) | From the confluence with Robinson Creek to approximately 1,041 feet upstream of the confluence with Robinson Creek | +744 | Unincorporated Areas of Taylor County.
Robinson Creek Tributary 9 (backwater effects from Robinson Creek) | From the confluence with Robinson Creek to approximately 55 feet upstream of Bradfordsville Road | +743 | Unincorporated Areas of Taylor County.
Sprat Branch (backwater effects from Green River Lake) | From the confluence with Green River Lake to approximately 0.7 mile upstream of Elkhorn Road | +713 | Unincorporated Areas of Taylor County.
Stone Quarry Creek (backwater effects from Green River Lake) | From the confluence with Green River Lake to approximately 1,010 feet upstream of the confluence with Stone Quarry Creek Tributary 5 | +713 | Unincorporated Areas of Taylor County.
Stone Quarry Creek Tributary 5 (backwater effects from Green River Lake) | From the confluence with Stone Quarry Creek to approximately 845 feet upstream of the confluence with Stone Quarry Creek | +713 | Unincorporated Areas of Taylor County.
Stoner Creek (backwater effects from Green River Lake) | From the confluence with Robinson Creek to approximately 1.2 miles upstream of the confluence with Robinson Creek | +713 | Unincorporated Areas of Taylor County.
Tallow Creek Tributary 4 (backwater effects from Tallow Creek) | From the confluence with Tallow Creek to approximately 920 feet upstream of Bradfordsville Road | +831 | Unincorporated Areas of Taylor County.
Wilson Creek (backwater effects from Green River Lake) | From the confluence with Green River Lake to approximately 1,630 feet upstream of the confluence with Wilson Creek Tributary 14 | +713 | Unincorporated Areas of Taylor County.
Wilson Creek Tributary 14 (backwater effects from Green River Lake) | From the confluence with Wilson Creek to approximately 670 feet upstream of the confluence with Wilson Creek | +713 | Unincorporated Areas of Taylor County.
* National Geodetic Vertical Datum.
+ North American Vertical Datum.
# Depth in feet above ground.
‸ Mean Sea Level, rounded to the nearest 0.1 meter.
ADDRESSES
Unincorporated Areas of Taylor County
Maps are available for inspection at the Taylor County Judicial Center, 300 East Main Street, Campbellsville, KY 42718.
Dorchester County, Maryland, and Incorporated Areas
Docket No.: FEMA-B-1083
Marshy Hope Creek | At the Caroline County boundary | +11 | Unincorporated Areas of Dorchester County.
| Approximately 250 feet downstream of the Town of Federalsburg corporate limits | +11
Wright's Branch | At Delaware Avenue | +35 | Unincorporated Areas of Dorchester County.
| Approximately 400 feet upstream of Andrews Street | +37
* National Geodetic Vertical Datum.
+ North American Vertical Datum.
# Depth in feet above ground.
‸ Mean Sea Level, rounded to the nearest 0.1 meter.
ADDRESSES
Unincorporated Areas of Dorchester County
Maps are available for inspection at the Dorchester County Office Building, 501 Court Lane, Cambridge, MD 21613.
Grenada County, Mississippi, and Incorporated Areas
Docket No.: FEMA-B-1093
Grenada Lake | Entire shoreline within community | +237 | City of Grenada, Unincorporated Areas of Grenada County.
* National Geodetic Vertical Datum.
+ North American Vertical Datum.
# Depth in feet above ground.
‸ Mean Sea Level, rounded to the nearest 0.1 meter.
ADDRESSES
City of Grenada
Maps are available for inspection at City Hall, 108 South Main Street, Grenada, MS 38901.
Unincorporated Areas of Grenada County
Maps are available for inspection at the Grenada County Courthouse, 59 Green Street, Room 1, Grenada, MS 38901.
Dade County, Missouri, and Incorporated Areas
Docket No.: FEMA-B-1093
Stockton Lake | Entire shoreline | +887 | Unincorporated Areas of Dade County.
* National Geodetic Vertical Datum.
+ North American Vertical Datum.
# Depth in feet above ground.
‸ Mean Sea Level, rounded to the nearest 0.1 meter.
ADDRESSES
Unincorporated Areas of Dade County
Maps are available for inspection at 300 West Water Street, Greenfield, MO 65661.
Stutsman County, North Dakota, and Incorporated Areas
Docket No.: FEMA-B-1087
Spiritwood Lake | Approximately 124 feet upstream of 4713 Street Southeast | +1448 | City of Spiritwood Lake City, Unincorporated Areas of Stutsman County.
* National Geodetic Vertical Datum.
+ North American Vertical Datum.
# Depth in feet above ground.
‸ Mean Sea Level, rounded to the nearest 0.1 meter.
ADDRESSES
City of Spiritwood Lake City
Maps are available for inspection at 603 East Lake County Road, Jamestown, ND 58401.
Unincorporated Areas of Stutsman County
Maps are available for inspection at 511 2nd Avenue Southeast, Jamestown, ND 58401.
Dillon County, South Carolina, and Incorporated Areas
Docket No.: FEMA-B-1122
Bear Swamp Creek | Just upstream of West 5th Avenue | +81 | Town of Lake View.
| Approximately 900 feet upstream of Cedar Street | +92
Little Pee Dee River | Approximately 1,200 feet upstream of the confluence with Maple Swamp | +85 | Unincorporated Areas of Dillon County.
| Approximately 1,600 feet upstream of State Route 9 | +87
Maple Swamp | At the confluence with the Little Pee Dee River | +85 | Town of Dillon, Unincorporated Areas of Dillon County.
| Approximately 200 feet upstream of the railroad | +104
Maple Swamp Tributary 5 | At the confluence with Maple Swamp | +106 | Town of Dillon, Unincorporated Areas of Dillon County.
| Approximately 1,400 feet upstream of Longstreet Road | +113
Reedy Creek Tributary 1 | Approximately 3,000 feet downstream of Academy Street | +88 | Town of Latta, Unincorporated Areas of Dillon County.
| Just upstream of the railroad | +103
Reedy Creek Tributary 2 | Approximately 2,000 feet downstream of West Academy Street | +93 | Town of Latta, Unincorporated Areas of Dillon County.
| Approximately 600 feet upstream of Manning View Road | +102
* National Geodetic Vertical Datum.
+ North American Vertical Datum.
# Depth in feet above ground.
‸ Mean Sea Level, rounded to the nearest 0.1 meter.
ADDRESSES
Town of Dillion
Maps are available for inspection at 401 West Main Street, Dillon, SC 29536.
Town of Lake View
Maps are available for inspection at 205 North Main Street, Lake View, SC 29563.
Town of Latta
Maps are available for inspection at 107 Northwest Railroad Avenue, Latta, SC 29565.
Unincorporated Areas of Dillon County
Maps are available for inspection at 109 South 3rd Street, Dillon, SC 29536.

(Catalog of Federal Domestic Assistance No. 97.022, “Flood Insurance.”)

Dated: May 16, 2011.
Edward L. Connor,
Acting Federal Insurance and Mitigation Administrator, Department of Homeland Security, Federal Emergency Management Agency.

FR Doc. 2011-12653 Filed 5-20-11; 8:45 am]

BILLING CODE 9110-12-P